DEPARTMENT OF AGRICULTURE

Submission for OMB Review; Comment Request

June 7, 2007.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Low Pathogenic Avian Influenza; Voluntary Control Program and Payment of Indemnity.

OMB Control Number: 0579-0305.

Summary of Collection: The Animal and Plant Health Inspection Service (APHIS) has the authority for administering the National Poultry Improvement Plan (NPIP), the primary purpose of which is to protect the health of the U.S. poultry population. NPIP is a Federal-State-industry cooperative program for the improvement of poultry breeding flocks and products through disease control techniques. Under the Plan, the regulations in 9 CFR part 56, “Control of H5/H7 Low Pathogenic Avian Influenza,” provide for the payment of indemnity for costs associated with the eradication of H5/H7 subtypes of low pathogenic avian influenza.

Need and Use of the Information: APHIS will collect information to certify the disease status of poultry through cooperative work performed by the States and industry and for the administration of other regulations intended to protect the health of the U.S. poultry population. The collected information will include sentinel bird identification, the creation and submission of flock testing reports, sales reports, breeding flock participation summaries, salmonella investigation reports, salmonella serotyping requests, and small chick order printouts. If the information is not collected, APHIS would be unable to effectively monitor the health of the nation's poultry population.

Description of Respondents: Business or other for-profit; State, local and tribal government.

Number of Respondents: 2,317.

Frequency of Responses: Recordkeeping; Reporting: On Occasion.

Total Burden Hours: 54,946.

Ruth Brown,
Departmental Information Collection Clearance Officer.

[FR Doc. E7-11329 Filed 6-12-07; 8:45 am]

BILLING CODE 3410-34-P